DEPARTMENT OF TRANSPORTATION

Federal Transit Administration

Elderly Individuals and Individuals With Disabilities Pilot Program

AGENCY: Federal Transit Administration (FTA), DOT.

ACTION: Notice; Solicitation of Proposals to Participate in the Elderly Individuals and Individuals with Disabilities Pilot Program.

SUMMARY: This solicitation is for proposals from states that would like to use a portion of their Section 5310 Elderly Individuals and Individuals with Disabilities Program funds for operating expenses.

DATES: Complete proposals must be submitted to FTA by the close of business December 14, 2005.

ADDRESSES: Proposals must be submitted electronically to cheryl.oliver@fta.dot.gov and marymartha.churchman@fta.dot.gov. The subject line of the e-mail should read: Proposal for Section 5310 Pilot Program.

FOR FURTHER INFORMATION: Contact Cheryl Oliver, Office of Program Management, (202) 366-2053, e-mail: cheryl.oliver@fta.dot.gov.

SUPPLEMENTARY INFORMATION:

Table of Contents

I. General Program Information

II. Guidelines for Preparing and Submitting Proposals

III. Proposal Review, Selection, and Notification

I. General Program Information

A. Authority

The Elderly Individuals and Individuals with Disabilities Pilot Program is authorized under Section 3012(b) of the Safe, Accountable, Flexible, and Efficient Transportation Equity Act—A Legacy for Users (SAFETEA-LU). This section establishes a pilot program allowing seven states to use not more than 33 percent of their FY 2006-2009 Section 5310 Elderly Individuals and Individuals with Disabilities Program annual apportionments for operating costs associated with transportation projects planned, designed, and carried out to meet the special needs of elderly individuals and individuals with disabilities. Four of the seven states are named in SAFETEA-LU: Wisconsin, Alaska, Minnesota, and Oregon. Three other states will be selected to participate in the pilot program from among the proposals submitted in response to this solicitation. All states wishing to use not more than 33 percent of their annual Section 5310 apportionments, including those states named in the legislation, must submit a proposal.

B. Background

Section 5310 Elderly Individuals and Individuals with Disabilities Program funds have historically been available only for capital purposes. Funds have traditionally been used for purchasing vehicles, although some states use Section 5310 funds for contracted service, eligible as a capital expense under the program in order to assess the feasibility of using Section 5310 for operating purposes. The Elderly Individuals and Individuals with Disabilities Pilot Program allows operating expenses to be funded on a limited basis. Seven states may use a portion of their FY 2006-2009 Section 5310 annual apportionments for operating expenses.

C. Eligible Applicants

Each of the four states named in SAFETEA-LU (Wisconsin, Alaska, Minnesota, and Oregon) and any other states interested in using not more than 33 percent of their Section 5310 funds for operating must submit a proposal. Any of the states named in the legislation that choose to use none of their Section 5310 funds for operating purposes need only submit a statement to that effect by the proposal deadline.

D. Eligible Expenses

Operating expenses are considered those costs directly related to system operations, such as fuel, oil, driver and dispatcher salaries and fringe benefits, and licenses. Net operating expenses are those expenses that remain after operating revenues are subtracted from eligible operating expenses. At a minimum, operating revenues must include fare-box revenues. States may further define what constitutes operating revenues. Fare-box revenues include fares paid by riders who are later reimbursed by a human service agency, or other user-side subsidy arrangements.

E. Matching Requirements

The Federal share for net operating expenses may not exceed 50 percent. All local and state revenues generally are eligible for inclusion in the local match with the exception of farebox and farebox-related revenues. Federal funds (other than Department of Transportation funds, with the exception of Federal lands highway funds) that are eligible to be expended for transportation may be used to match Section 5310 funds. Payments made directly to the transit provider by human service agencies may also be used as match.

F. Proposal Evaluation Criteria

Proposals from the states identified in SAFETEA-LU (Wisconsin, Alaska, Minnesota, and Oregon), as well as all other states interested in using not more than 33 percent or less of their funds for operating expenses, will be evaluated on the degree to which the state has undertaken initiatives that advance coordination, such as:

• Conducted a statewide assessment of current needs, resources and services related to human service transportation using the United We Ride Framework for Action.

• Developed action plans that improve coordination of human service transportation for individuals with disabilities, older adults, and persons with lower incomes.

• Implemented a statewide interagency transit pass program.

• Conducted statewide seminars/conferences to establish statewide dialogue that leads to effective action steps for future coordination of human service transportation issues.

• Developed a statewide regionalized coordination system.

• Replicated a successful model in one or more communities across the state (i.e., transit pass program; volunteer driver; travel training; etc.).

• Integrated technology to address the needs of coordination on human service transportation, including real time eligibility, accountability, billing, and reporting.

• Developed and tested a mobility management strategy.

G. Program Requirements

Grants made for projects that include operating expenses are subject to Federal requirements that apply to all grants made under the Section 5310 program, including the new requirement that all projects funded under the program were derived from a locally developed, coordinated public transit-human services transportation plan; and the plan was developed through a process that included representatives of public, private, and nonprofit transportation and human services providers with participation by the public. This planning requirement is not in effect for the Section 5310 Elderly Individuals and Individuals with Disabilities Program until FY 2007. SAFETEA-LU includes this provision under Section 3012(b) as well, but does not specify the year in which this requirement goes into effect for the Elderly Individuals and Individuals with Disabilities Pilot Program. Applicants for Section 5310 pilot program funds must therefore meet the requirement in FY 2006. In FY 2006, applicants can meet the requirement by certifying that projects funded that include operating expenses were the result of a consultative process that included public participation. In the coming months, FTA will provide further guidance on the local planning process required under the Section 5310 Elderly Individuals and Individuals with Disabilities Program and the Elderly Individuals and Individuals with Disabilities Pilot Program in FY 2007.

Successful applicants allowed to using a portion of their Section 5310 funds for operating expenses will be expected to collect data necessary to support the report to Congress that FTA must submit within two years of enactment of SAFETEA-LU. FTA will issue more guidance in the coming months on the types of data to be collected, as well as the method to be used for transmitting the data to FTA, to the states participating in the pilot. The data will be used to evaluate the degree to which funds are used for operating purposes that:

(1) Subsidize existing paratransit service provided to meet the requirements of the Americans with Disabilities Act of 1990 (ADA);

(2) Provide services to persons with disabilities that exceed those required by the ADA;

(3) Provide services to individuals with disabilities that exceed those required by the ADA to the detriment of other eligible projects;

(4) Assist elderly individuals;

(5) Assist persons with disabilities;

(6) Serve a wider range of elderly individuals, individuals with low-incomes, and individuals with disabilities;

(7) Improve services to elderly individuals and individuals with disabilities;

(8) Expand the range of transportation alternatives available to elderly individuals and individuals with disabilities; and

(9) Facilitate or discourage coordination with or integration of other funding sources.

II. Guidelines for Preparing and Submitting Proposals

FTA is conducting a national solicitation for proposals from states wishing to participate in the Elderly Individuals and Individuals with Disabilities Pilot Program. FTA will grant authority for three states, in addition to those named in SAFETEA-LU, to use not more than 33 percent of their annual Section 5310 apportionment for operating expenses related to the program in FY 2006 through FY 2009. States will be selected to participate on a competitive basis. Proposals should be submitted electronically to: cheryl.oliver@fta.dot.gov and marymartha.churchman@fta.dot.gov. Proposals must be received by FTA no later than December 14, 2005. The state agency designated by the Governor to administer the Section 5310 program will submit a proposal that includes:

1. Applicant Information

Basic identifying information, including:

a. Agency

b. Contact information for notification of project selection: Contact name, address, fax and phone number

2. Project Information

Every application must:

a. Provide the proportion of funds that the state intends to use for operating expenses (not more than 33 percent) for each year of the authorization period (fiscal years 2006-2009);

b. Document sources of funds likely to be used to match FTA funds used for operating purposes;

c. Include a narrative portion (not more than 8 pages, double-spaced) that addresses the state's achievements in advancing coordination of public transit-human services transportation, as described in paragraph F, Proposal Criteria, and how the state expects to further enhance coordinated transportation services as a result of using some of their Section 5310 funds for operating expenses.

III. Proposal Review, Selection, and Notification

FTA will evaluate proposals based on the degree to which a state has advanced coordination of public transit-human services transportation and the degree to which they believe using a portion of their Section 5310 funds for operating expenses will further enhance coordination efforts.

FTA expects to announce states selected to participate in the pilot program in the Federal Register Notice of FTA Fiscal Year 2006 Apportionments, Allocations, and Program Information, or in a subsequent notice. The seven states selected will be eligible to participate in the pilot program through FY 2009.

Issued on: November 7, 2005.
Jennifer L. Dorn,
Administrator.

[FR Doc. 05-22524 Filed 11-10-05; 8:45 am]

BILLING CODE 4910-57-P